NATIONAL COUNCIL ON DISABILITY

Sunshine Act Meetings Notice

TIME AND DATES: The Members of the National Council on Disability (NCD) will hold a quarterly meeting on Tuesday, January 29, 2013, 9:00 a.m.-5:00 p.m. (ET).

PLACE: The meeting will occur at the Access Board Conference Room, 1331 F Street, NW., Suite 800, Washington, DC. Interested parties may join the meeting in person or may join by phone in a listening-only capacity (with the exception of the public comment period) using the following call-in number: 1-888-523-1228; passcode 3484831. If asked, the conference call host's name is Jonathan Young.

MATTERS TO BE CONSIDERED: The Council will receive updates from the Council's standing committees, will discuss and vote on two Medicaid reports (one on self-direction and one on block-granting), will discuss the agency's 2013 progress report, will receive a briefing from Administrator Craig Fugate of the Federal Emergency Management Agency (FEMA) regarding the response to Hurricane Sandy, as it pertains to people with disabilities, and will receive public comment. The times provided below are approximations for when each agenda item is anticipated to be discussed (all times Eastern):

9:00-9:30 a.m. Chairman's Report, Executive Director's Report

9:30-10:30 a.m. Audit and Finance Committee report, Governance Committee report

10:30 a.m.-12:00 p.m. Policy and Program Evaluation Committee Report (including discussion and votes on Medicaid reports)

1:15-2:15 p.m. NCD Progress Report Discussion

2:15-3:15 p.m. Agency briefing with FEMA Administrator Craig Fugate

3:30-4:00 p.m. Public comment period

Any individuals interested in providing public comment will be asked to provide their names and their organizational affiliations, if applicable, and to limit their comments to three minutes. Individuals may also provide public comment by sending their comments in writing to Lawrence Carter-Long, Public Affairs Specialist, at lcarterlong@ncd.gov, using the subject line of “Public Comment.”

CONTACT PERSON FOR MORE INFORMATION: Anne Sommers, NCD, 1331 F Street NW., Suite 850, Washington, DC 20004; 202-272-2004 (V), 202-272-2074 (TTY).

ACCOMMODATIONS: Those who plan to attend and require accommodations should notify NCD as soon as possible to allow time to make arrangements. Please note: To help reduce exposure to fragrances for those with multiple chemical sensitivities, NCD requests that all those attending the meeting in person please refrain from wearing scented personal care products such as perfumes, hairsprays, colognes, and deodorants.

Dated: January 10, 2013.
Aaron Bishop,
Executive Director.

[FR Doc. 2013-00779 Filed 1-11-13; 11:47 am]

BILLING CODE 6820-MA-P